DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 19, 2010.

Interested persons are invited to submit written comments regarding the subject matter of the investigations to the Director, Division of Trade Adjustment Assistance, at the address shown below, not later than July 19, 2010.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 24th of June 2010.
Richard Church,
Certifying Officer, Division of Trade Adjustment Assistance.

Appendix
[TAA petitions instituted between 6/14/10 and 6/18/10]
TA-W | Subject firm (petitioners) | Location | Date of institution | Date of petition
74240 | Baker Hughes (Company) | Broussard, LA | 06/14/10 | 06/08/10
74241 | Allen Canning Company (Company) | Hessmer, LA | 06/14/10 | 06/14/10
74242 | Steris Corporation (Company) | Erie, PA | 06/15/10 | 06/14/10
74243 | Wardwell Braiding Machine Company (Workers) | Central Falls, RI | 06/15/10 | 06/08/10
74244 | Manulife Financial (State/One-Stop) | Boston, MA | 06/15/10 | 06/15/10
74245 | Omya, Inc. (State/One-Stop) | Cincinnati, OH | 06/15/10 | 06/11/10
74246 | Bank of America (Workers) | State College, PA | 06/15/10 | 06/11/10
74247 | Trinity Industries, Inc. (Workers) | Quincy, IL | 06/16/10 | 06/15/10
74248 | Hewlett-Packard Company (HP) (State/One-Stop) | Palo Alto, CA | 06/16/10 | 06/04/10
74249 | Hoffman-LaRoche, Inc. (State/One-Stop) | Nutley, NJ | 06/16/10 | 06/15/10
74250 | Charming Shoppes of Delaware, Inc. (Company) | Bensalem, PA | 06/16/10 | 06/15/10
74251 | Almatis, Inc. (State/One-Stop) | Bauxite, AR | 06/16/10 | 06/15/10
74252 | Honeywell International, Inc. (Workers) | Phoenix, AZ | 06/17/10 | 06/10/10
74253 | International Business Machines (IBM) (State/One-Stop) | Phoenix, AZ | 06/17/10 | 06/03/10
74254 | National Carton and Coating Company (State/One-Stop) | Xenia, OH | 06/17/10 | 06/07/10
74255 | Ford Motor Credit (Workers) | Greenville, SC | 06/17/10 | 06/07/10
74256 | Ferrous Metal Processing (State/One-Stop) | Brooklyn, OH | 06/17/10 | 05/15/10
74257 | Hewlett Packard Company (Company) | Palo Alto, CA | 06/17/10 | 05/16/10
74258 | RWD Technologies (State/One-Stop) | Troy, MI | 06/17/10 | 05/26/10
74259 | Dott Industries Deco' Plate (State/One-Stop) | Lapeer, MI | 06/17/10 | 05/26/10
74260 | xpedx (State/One-Stop) | Livonia, MI | 06/17/10 | 05/26/10
74261 | Kenco Logistic Services, LLC (Workers) | Evansville, IN | 06/17/10 | 06/02/10
74262 | Analogic Corporation (State/One-Stop) | Peabody, MA | 06/17/10 | 06/14/10
74263 | Sitton Motor Lines, Incorporated (Workers) | Joplin, MO | 06/18/10 | 06/04/10
74264 | Lazar Industries (Workers) | Siler City, NC | 06/18/10 | 06/15/10
74265 | Smith Micro Technologies (State/One-Stop) | St. Paul, MN | 06/18/10 | 06/17/10
74266 | Prudential Financial (Workers) | Moosic, PA | 06/18/10 | 06/17/10
74267 | Mason County Forest Products (Company) | Shelton, WA | 06/18/10 | 06/14/10

[FR Doc. 2010-16414 Filed 7-6-10; 8:45 am]

BILLING CODE 4510-FN-P